DEPARTMENT OF COMMERCE

National Oceanic and Atmospheric Administration

Agency Information Collection Activities; Submission to the Office of Management and Budget (OMB) for Review and Approval; Comment Request; Western Pacific Community Development Program Process

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on March 2, 2021 (86 FR 12178) during a 60-day comment period. This notice allows for an additional 30 days for public comments.

Agency: NOAA National Marine Fisheries Service, Commerce.

Title: Western Pacific Community Development Process.

OMB Control Number: 0648-0612.

Form Number(s): None.

Type of Request: Regular submission (extension of a currently approved collection).

Number of Respondents: 5.

Average Hours per Response: 6 hours.

Total Annual Burden Hours: 30 hours.

Needs and Uses: The National Marine Fisheries Service (NMFS) and the Western Pacific Fishery Management Council (Council) established the western Pacific community development program to promote the participation of western Pacific communities in fisheries that they have traditionally depended upon, but in which they may not have the capabilities to support continued and substantial participation, possibly due to economic, regulatory, or other barriers. To be eligible to participate in the western Pacific community development program, a community must meet the criteria set forth in 50 CFR part 665.20, and submit a community development plan that describes the purposes and goals of the plan, the justification for proposed fishing activities, and the degree of involvement by the indigenous community members, including contact information. This collection of information is needed to determine whether communities submitting a proposal are eligible for participation in the community development program, and whether the activities proposed under the plan are consistent with the intent of the program, the Magnuson-Stevens Act, and other applicable laws.

Affected Public: Individuals or households; Business or other for-profit organizations; and Not-for-profit institutions.

Frequency: As required.

Respondent's Obligation: Voluntary.

Legal Authority: 50 CFR 665.

This information collection request may be viewed at https://www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0648-0612.

Sheleen Dumas,
Department PRA Clearance Officer, Office of the Chief Information Officer, Commerce Department.

[FR Doc. 2021-13870 Filed 6-29-21; 8:45 am]

BILLING CODE 3510-22-P